DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NACNHSC).

Dates and Times: September 28, 2016 12:00 p.m.-3:30 p.m. EST.

Place: U.S. Department of Health and Human Services, Health Resources and Services Administration, 5600 Fishers Lane, Rockville, Maryland 20857, Conference Call Format.

Status: This advisory council meeting will be open to the public.

Purpose: The NACNHSC makes recommendations with respect to their responsibilities under Subpart II, Part D of Title III of the Public Health Service Act, as amended (National Health Service Corps and Health Professional Shortage Area Designations), and shall review and comment upon regulations promulgated by the Secretary under Subpart II.

Agenda: The NACNHSC has concluded its discussion for Fiscal Year 2016 and will present its formal recommendations for each priority area. The Council will discuss policy recommendations for the National Health Service Corps scholarship and loan repayment programs with respect to clinician recruitment and retention in underserved communities throughout the service areas of the NHSC, telehealth, Medication Assisted Treatment (MAT) certification, mentorship, and NHSC discipline expansion, specifically for mental and behavioral, and oral health providers.

The content of the agenda is subject to change prior to the meeting. The NACNHAC final agenda will be available 3 days in advance of the meeting at http://nhsc.hrsa.gov/corpsexperience/aboutus/nationaladvisorycouncil/meetingsummaries/index.html.

SUPPLEMENTARY INFORMATION: Further information regarding the NACNHSC, including the roster of members and past meetings summaries, is available at http://nhsc.hrsa.gov/corpsexperience/aboutus/nationaladvisorycouncil/index.html. Members of the public and interested parties may request to participate in the meeting by contacting Monica-Tia Bullock via email at MBullock@hrsa.gov.

• The conference call-in number is 1-800-619-2521. Passcode: 9271697.

• The webinar link is https://hrsa.connectsolutions.com/nacnhsc.

Public participants may submit written statements in advance of the scheduled meeting. If you would like to provide oral public comment during the meeting please register with Monica-Tia Bullock at MBullock@hrsa.gov. Public comment will be limited to 3 minutes per speaker. Statements and comments can be addressed to Monica-Tia Bullock by emailing her at MBullock@hrsa.gov.

In addition, please be advised that committee members are given copies of all written statements submitted from the public. Any further public participation will be solely at the discretion of the Chair, with approval of the DFO. Registration through the designated contact for the public comment session is required. Individuals who need reasonable accommodations should contact Monica-Tia Bullock at least 10 days prior to the meeting.

FOR FURTHER INFORMATION CONTACT: Anyone requesting information regarding the NACNHSC should contact CAPT Jeanean Willis-Marsh, Director, Division of National Health Service Corps, Bureau of Health Workforce, Health Resources and Services Administration, in one of three ways: (1) Send a request to the following address: CAPT Jeanean Willis-Marsh, Director, Division of National Health Service Corps, Bureau of Health Workforce, Health Resources and Services Administration, 5600 Fishers Lane, Room 14N108, Rockville, Maryland 20857; (2) call (301) 443-4494; or (3) send an email to jwillis@hrsa.gov.

Jason E. Bennett,
Director, Division of the Executive Secretariat.

[FR Doc. 2016-21581 Filed 9-7-16; 8:45 am]

BILLING CODE 4165-15-P